DEPARTMENT OF THE INTERIOR

National Park Service

[NPS-WASO-NAGPRA-NPS0039144; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice.

DATES: Repatriation of the human remains and associated funerary objects in this notice may occur on or after January 6, 2025.

ADDRESSES: Celise Chilcote-Fricker, William S. Webb Museum of Anthropology, University of Kentucky, 1020 Export Street, Lexington, KY 40504, telephone (859) 257-5124, email celise.fricker@uky.edu.

SUPPLEMENTARY INFORMATION: This notice is published as part of the National Park Service's administrative responsibilities under NAGPRA. The determinations in this notice are the sole responsibility of the WSWM, and additional information on the determinations in this notice, including the results of consultation, can be found in the inventory or related records. The National Park Service is not responsible for the determinations in this notice.

Abstract of Information Available

Based on the information available, human remains representing, at least, 19 individuals have been reasonably identified. The 350 associated funerary objects are 43 lots lithic, 24 lots stone, five chipped stone tools, two stone drills, three stone discodials, two stone pipe fragments, one biface, one blade, one scraper, 11 lithic projectile points, one grinding slab, eight lithic cores, one bone drift, 24 modified bone tools, one bone bead, one deer mandible, one bear tooth pendant, two bone awls, 44 lots faunal, 38 lots shell, one shell hoe, 43 lots ceramic, one lot clay, 32 lots charcoal, 26 lots soil samples, 17 lots floatation, and 16 lots historic. Site 15BE06 (Petersburg) in Boone County, KY was initially excavated by the University of Kentucky Program for Cultural Resource Assessment in 1990, then excavated by the Kentucky Archaeological Survey as a salvage project in 2007 and again as part of a cultural resource management project by K&V CRM and the Kentucky Archaeological Survey in 2013. A Fort Ancient determination for these human remains is based on the presence of shell-tempered ceramics and contact-period burial associations. No known hazardous substances are present.

Based on the information available, human remains representing, at least, one individual have been reasonably identified. No associated funerary objects are present. Site 15BE08 (McCabe Mound) in Boone County, KY was excavated in 1939 by the University of Kentucky Museum of Anthropology under contract to the WPA. A Fort Ancient determination for these human remains is based on the presence of diagnostic limestone/shell-tempered ceramics and projectile points, and on C14 dates of 830 +/−90 BP. No known hazardous substances are present.

Based on the information available, 38 associated funerary objects are seven lots lithic, five lots shell, four lots burned clay, four lots faunal, six lots sherds, two lots soil flotations, one soil sample, one nail, one piece of wood, and seven lots charcoal. Site 15BB13 (Larkin) in Bourbon County, KY was excavated by Kentucky Heritage Council staff in 1986. A Fort Ancient determination is based on the presence of ceramic vessel shapes (salt pans, colanders, globular jars) and `weeping eye' shell mask gorgets characteristic of Late Fort Ancient culture in the Central Bluegrass region. No known hazardous substances are present.

Based on the information available, 11 associated funerary objects are one lot ceramic, two sherds, two lots faunal, two faunal bones, one lot lithic, one lithic fragment, and two lots shell. Site 15BB45 (New Field) in Bourbon County, KY was excavated in 1992 by the University of Kentucky Program for Cultural Resource Assessment. A Fort Ancient determination is based on the presence of shell/limestone tempered ceramics characteristic of Fort Ancient occupations in eastern Kentucky and on C14 dates. No known hazardous substances are present.

Based on the information available, human remains representing, at least, two individuals have been reasonably identified. No associated funerary objects are present. Site 15BK200 (Augusta) in Bracken County, KY was excavated in 1984 as part of the University of Kentucky's Contact Period Project. A Fort Ancient determination for these human remains is based on the presence of shell-tempered Madisonville ceramics and triangular projectile points. No known hazardous substances are present.

Based on the information available, human remains representing, at least, one individual have been reasonably identified. No associated funerary objects are present. Site 15BK03 (unnamed) in Bracken County, KY was surface collected in 1960 by University of Kentucky archaeologists as part of the Bracken County Survey. A Fort Ancient determination for these human remains is based on the presence of shell-tempered Madisonville ceramics and triangular projectile points. No known hazardous substances are present.

Based on the information available, human remains representing, at least, one individual have been reasonably identified. The three associated funerary objects are three lithic scrapers. Site 15FA00 (Gainesway) in Fayette County, KY was excavated by the University of Kentucky Museum of Anthropology in 1959. A Fort Ancient determination for these human remains is based on burial form. No known hazardous substances are present.

Based on the information available, human remains representing, at least, 104 individuals have been reasonably identified. The 274 associated funerary objects are one lot botanics, two lots faunal, one lot floatation, five lots shell, 198 lots of sherds, three bone beads, five bone drifts, one brass/copper coil, two ceramic disks, one graver, two lithic blanks, 17 projectile points, one marginella bead, three modified bones, one pipe fragment, seven scrapers, and 24 Shell Beads. Site 15GP22 (Hardin Village) in Greenup County, KY was excavated in 1939 by the University of Kentucky Museum of Anthropology under contract to the Works Progress Administration (WPA). A Fort Ancient determination for these human remains is based on the presence of diagnostic shell/limestone-tempered ceramics, and projectile points, wall-trench houses, and shell gorgets. No known hazardous substances are present.

Based on the information available, human remains representing, at least, one individual have been reasonably identified. The 46 associated funerary objects are one shell gorget, one lot ash, two lots botanics, three lots charcoal, four lots ceramic, four lots faunal, one lot floatation, four lots lithic, four lots shell, three lots soil samples, two bone beads, one bone flute, two bone projectile points, one lithic drill, five groundstones, five marginella shell beads, and three lithic projectile points. Site 15HR22 (Florence) in Harrison County, KY was surveyed in 1987 by University of Kentucky archaeologists and then excavated between 1989 and 1990 by the Kentucky Archaeology Survey and Kentucky Heritage Council. A Fort Ancient determination for these human remains is based on diagnostic ceramic types, triangular projectile points, and C14 dates. No known hazardous substances are present.

Based on the information available, human remains representing, at least, one individual have been reasonably identified. No associated funerary objects are present. Site 15JS86 (Muir) in Jessamine County, KY was excavated in was excavated in 1986 by the University of Kentucky Program for Cultural Resource Assessment. A Fort Ancient determination for these human remains is based on the presence of diagnostic limestone/shell-tempered ceramics and projectile points. No known hazardous substances are present.

Based on the information available, human remains representing, at least, one individual have been reasonably identified. The five associated funerary objects are one lot ceramic, one lot faunal, one lot lithic, one lot shell, and one bone bead. Site 15JO14 (Mayo) in Johnson County, KY was excavated in 1939 by the University of Kentucky Museum of Anthropology under contract to the WPA. A Fort Ancient determination for these human remains is based on the presence of shell-tempered ceramics, overall site plan, and rectangular single-set-post houses. No known hazardous substances are present.

Based on the information available, human remains representing, at least, one individual have been reasonably identified. No associated funerary objects are present. Site 15MS01 (Fox Farm/Fox Field) in Mason County, KY was first surveyed, surface collected and excavated by E.S. Maxwell and William S. Webb between 1920 and 1930 and donated to the University of Kentucky Museum of Anthropology. A Fort Ancient determination for these human remains is based on diagnostic ceramic types, triangular projectile points, and marine shell gorgets. No known hazardous substances are present.

Based on the information available, human remains representing, at least, five individuals have been reasonably identified. The 67 associated funerary objects are three lots ash, three lots botanics, four lots ceramic, four lots charcoal, four lots faunal, one lot floatation, four lots lithic, four lots shell, one lot soil sample, four bifaces, one cannel coal, two discodials, two groundstones, two limestone disks, two modified bones, two pigment stones, 19 projectile points/knives, one sandstone bead, one sandstone pipe, and three scored antlers. Site 15MS52 (Van Meter) in Mason County, KY was surface surveyed and collected as part of a CRM project led by the Kentucky Heritage Council in 1985 and was surveyed and then excavated in 2011 by the Kentucky Archaeological Survey. A Fort Ancient determination for these human remains is based on the presence of diagnostic shell-tempered ceramics, triangular projectile points, and radiocarbon dates. No known hazardous substances are present.

Based on the information available, human remains representing, at least, seven individuals have been reasonably identified. The 80 associated funerary objects are one lot botanics, three lots ash, six lots ceramic, seven lots charcoal, seven lots faunal, one lot floatation, seven lots lithic, one lot metal, four lots shell, one biface, three bone awls, one bone hair pin, one ceramic bowl, one clay bead, one crinoid bead, two faunal projectile points, one fossil, one gun flint, one hematite flake, one limestone abrader, 11 lithic cores, eight lithic projectile points/knives, two triangular projectile points, one microdrill, four modified antlers, one engraved hematite, and two pigment stones. Site 15ME15 (Wheeler, Mercer Village) in Mercer County, KY was excavated in 1960 by John T. Carter, who then donated the material to the University of Kentucky Museum of Anthropology and excavated again in 2013 as part of a University of Kentucky field school by the Kentucky Archaeological Survey. A Fort Ancient determination for these human remains is based on the presence of diagnostic shell-tempered ceramics and triangular projectile points. No known hazardous substances are present.

Based on the information available, 11 associated funerary objects are one lot botanics, two lots ceramic, two lots faunal, two lots floatation, two lots lithic, and two triangular points. Site 15ME62 (Dry Branch Creek) in Mercer County, KY was first surveyed in 1995 and 1996 during planning for a bridge replacement. Excavation followed in 1998, as part of a Phase III mitigation project undertaken by Wilbur Smith Associates. A Fort Ancient determination for these human remains is based on diagnostic ceramic types, triangular projectile points, and C14 dates. No known hazardous substances are present.

Based on the information available, human remains representing, at least, seven individuals have been reasonably identified. The 21 associated funerary objects are three lots charcoal, two lots faunal, three lots flotations, four lots lithic, two lots shell, two bone beads, one bone needle tip, one c-14 sample, one groundstone bar, one botanic, and one projectile point. Site 15PI10 (Millard) in Pike County, KY was excavated by the University of Kentucky Museum of Archaeology in 1975. A Fort Ancient determination for these human remains is based on the presence of limestone/shell-tempered ceramics, small triangular projectile points, and overall site plan. No known hazardous substances are present.

Based on the information available, human remains representing, at least, one individual have been reasonably identified. The 325 associated funerary objects are 324 bone beads and one lot faunal. Site 15PI227 (Pauley Station) in Pike County, KY was surface collected and then donated to the University of Kentucky Museum of Archaeology by a private collector in 1959. A Fort Ancient determination for these human remains is based on the presence of shell-tempered ceramics and stone slab graves characteristic of Fort Ancient culture in Eastern Kentucky. No known hazardous substances are present.

Cultural Affiliation

Based on the information available and the results of consultation, cultural affiliation is clearly identified by the information available about the human remains and associated funerary objects described in this notice.

Determinations

The WSWM has determined that:

• The human remains described in this notice represent the physical remains of 152 individuals of Native American ancestry.

• The 1,231 objects described in this notice are reasonably believed to have been placed intentionally with or near individual human remains at the time of death or later as part of the death rite or ceremony.

• There is a reasonable connection between the human remains and associated funerary objects described in this notice and the Absentee-Shawnee Tribe of Indians of Oklahoma; Eastern Shawnee Tribe of Oklahoma; and the Shawnee Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 6, 2025. If competing requests for repatriation are received, the WSWM must determine the most appropriate requestor prior to repatriation. Requests for joint repatriation of the human remains and associated funerary objects are considered a single request and not competing requests. The WSWM is responsible for sending a copy of this notice to the Indian Tribes and Native Hawaiian organizations identified in this notice.

Authority: Native American Graves Protection and Repatriation Act, 25 U.S.C. 3003, and the implementing regulations, 43 CFR 10.10.

Dated: November 22, 2024.
Melanie O'Brien,
Manager, National NAGPRA Program.

[FR Doc. 2024-28499 Filed 12-4-24; 8:45 am]

BILLING CODE 4312-52-P